DEPARTMENT OF EDUCATION

Advisory Committee on Student Financial Assistance; Hearing

AGENCY: Advisory Committee on Student Financial Assistance, Education.

ACTION: Notice of upcoming hearing.

SUMMARY: This notice sets forth the schedule and proposed agenda of a forthcoming hearing of the Advisory Committee on Student Financial Assistance. individuals who will need accommodations for a disability in order to attend the hearing (i.e., interpreting services, assistive listening devices, and/or materials in alternative format) should notify the Advisory Committee no later than Friday, March 19, 2004, by contacting Ms. Hope M. Gray at 202-219-2099 or via e-mail at hope.gray@ed.gov. We will attempt to meet requests after this date, but cannot guarantee availability of the requested accommodation. The hearing site is accessible to individuals with disabilities. This notice also describes the functions of the Advisory Committee. Notice of this hearing is required under section 10(a)(2) of the Federal Advisory Committee Act. This document is intended to notify the general public.

DATES: Tuesday, March 30, 2004, beginning at 9 a.m. and ending at approximately 4 p.m.

ADDRESSES: The University of Illinois at Chicago, Student Service Building, 1200 W. Harrison Street, Conference Room A, Chicago, IL 60607.

FOR FURTHER INFORMATION CONTACT: Dr. Brian K. Fitzgerald, Staff Director, Advisory Committee on Student Financial Assistance, Capitol Place, 80 F Street, NW., Suite 413, Washington, DC 20202-7582, (202) 219-2099.

SUPPLEMENTARY INFORMATION: The Advisory Committee on Student Financial Assistance is established under section 491 of the Higher Education Act of 1965 as amended by Public Law 100-50 (20 U.S.C. 1098). The Advisory Committee serves as an independent source of advice and counsel to the Congress and the Secretary of Education on student financial aid policy. Since its inception, the congressional mandate requires the Advisory Committee to conduct objective, nonpartisan, and independent analyses on important aspects of the student assistance programs under Title IV of the Higher Education Act. In addition, Congress expanded the Advisory Committee's agenda in the Higher Education Amendments of 1998 in several important areas: access, Title IV modernization, distance education, and early information and needs assessment. Specifically, the Advisory Committee is to review, monitor and evaluate the Department of Education's progress in these areas and report recommended improvements to Congress and the Secretary.

The FY 2004 Consolidated Appropriations Act (H.R. 2673), which was signed into law on January 23, 2004, directs the Advisory Committee to examine the Federal financial aid formula and application forms in order to simplify and streamline the programs to make the system easier, more responsive, and fairer for students and families. The Advisory Committee is well suited to conduct this study, drawing upon the expertise of its 11 members and its experience conducting other broad studies on financial aid issues. The Advisory Committee also has the particular mission of examining the impact of these issues on low- and moderate-income students, a specific goal of the study.

The Advisory Committee has scheduled this regional field hearing to gather additional feedback about financial aid simplification. The proposed agenda includes expert testimony and discussion of the following issues: (a) The impact of complexities in the financial aid process on access to postsecondary education, particularly for low-income students; (b) opportunities for simplification in the financial aid process and forms; and (c) specific issues related to financial aid simplification, such as early notification of financial aid eligibility. The agenda also includes an afternoon session during which the general public is invited to provide oral and/or written testimony to the Advisory Committee on these issues. The Advisory Committee also invites the public to submit written comments regarding this study to the following e-mail address: ADV_COMSFA@ed.gov. We must receive your comments on or before April 23, 2004.

Space for the hearing is limited and you are encouraged to register early if you plan to attend the hearing. You may register through the Internet by emailing the Advisory Committee at ADV_COMSFA@ed.gov or at Tracy.Deanna.Jones@ed.gov. Please include your name, title, affiliation, complete address (including Internet and e-mail—if available), and telephone and fax numbers. If you are unable to register electronically, you may mail or fax your registration information to the Advisory Committee staff office at (202) 219-3032. Also, you may contact the Advisory Committee staff at (202) 219-2099. The registration deadline is Monday, March 22, 2004.

Records are kept of all committee proceedings, and are available for public inspection at the Office of the Advisory Committee on Student Financial Assistance, Capitol Place, 80 F Street, NW., Suite 413, Washington, DC from the hours of 9 a.m. to 5:30 p.m., Monday through Friday, except Federal holidays. Information regarding the simplification study will also be made available on the Advisory Committee's Web site, www.ed.gov/ACSFA.

Dated: March 1, 2004.
Dr. Brian K. Fitzgerald,
Staff Director, Advisory Committee on Student Financial Assistance.

[FR Doc. 04-4901 Filed 3-4-04; 8:45 am]

BILLING CODE 4000-01-M